DEPARTMENT OF HOMELAND SECURITY

Office of the Secretary

6 CFR Chs. I and II

[DHS Docket No. OGC-RP-04-001]

Unified Agenda of Federal Regulatory and Deregulatory Actions

AGENCY: Office of the Secretary, DHS.

ACTION: Semiannual Regulatory Agenda.

SUMMARY: This regulatory agenda is a semiannual summary of projected regulations, existing regulations, and completed actions of the Department of Homeland Security (DHS) and its components. This agenda provides the public with information about DHS's regulatory and deregulatory activity. DHS expects that this information will enable the public to be more aware of, and effectively participate in, the Department's regulatory and deregulatory activity. DHS invites the public to submit comments on any aspect of this agenda.

FOR FURTHER INFORMATION CONTACT:

General

Please direct general comments and inquiries on the agenda to the Regulatory Affairs Law Division, Office of the General Counsel, U.S. Department of Homeland Security, 2707 Martin Luther King Jr. Avenue SE, Mail Stop 0485, Washington, DC 20528-0485.

Specific

Please direct specific comments and inquiries on individual actions identified in this agenda to the individual listed in the summary portion as the point of contact for that action.

SUPPLEMENTARY INFORMATION: DHS provides this notice pursuant to the requirements of the Regulatory Flexibility Act (Pub. L. 96-354, Sept. 19, 1980) and Executive Order 12866 “Regulatory Planning and Review” (Sept. 30, 1993) as incorporated in Executive Order 13563 “Improving Regulation and Regulatory Review” (Jan. 18, 2011), which require the Department to publish a semiannual agenda of regulations. The regulatory agenda is a summary of existing and projected regulations as well as actions completed since the publication of the last regulatory agenda for the Department. DHS's last semiannual regulatory agenda was published online on December 6, 2023, at https://www.reginfo.gov/public/do/eAgendaMain.

Beginning in fall 2007, the internet became the basic means for disseminating the Unified Agenda. The complete Unified Agenda is available online at www.reginfo.gov.

The Regulatory Flexibility Act (5 U.S.C. 602) requires Federal agencies to publish their regulatory flexibility agendas in the Federal Register. A regulatory flexibility agenda shall contain, among other things, a brief description of the subject area of any rule which is likely to have a significant economic impact on a substantial number of small entities. DHS's printed agenda entries include regulatory actions that are in the Department's regulatory flexibility agenda. Printing of these entries is limited to fields that contain information required by the agenda provisions of the Regulatory Flexibility Act. Additional information on these entries is available in the Unified Agenda published on the internet.

The semiannual agenda of the Department conforms to the Unified Agenda format developed by the Regulatory Information Service Center.

Christina E. McDonald,
Associate General Counsel for Regulatory Affairs.

U.S. Citizenship and Immigration Services—Proposed Rule Stage
Sequence No. | Title | Regulation Identifier No.
116 | Modernizing Regulations Governing Nonimmigrant Workers | 1615-AC88

U.S. Citizenship and Immigration Services—Final Rule Stage
Sequence No. | Title | Regulation Identifier No.
117 | Modernizing H-1B Requirements and Oversight, Providing Flexibility in the F-1 Program, and Program Improvements Affecting Other Nonimmigrant Workers | 1615-AC70
118 | Modernizing H-2 Program Requirements, Oversight, and Worker Protections | 1615-AC76

U.S. Citizenship and Immigration Services—Long-Term Actions
Sequence No. | Title | Regulation Identifier No.
119 | Petition for Immigrant Worker Reforms | 1615-AC85

U.S. Citizenship and Immigration Services—Completed Actions
Sequence No. | Title | Regulation Identifier No.
120 | U.S. Citizenship and Immigration Services Fee Schedule and Changes to Certain Other Immigration Benefit Request Requirements | 1615-AC68

U.S. Coast Guard—Proposed Rule Stage
Sequence No. | Title | Regulation Identifier No.
121 | Claims Procedures Under the Oil Pollution Act of 1990 | 1625-AA03
122 | Safety Management Systems for Domestic Passenger Vessels | 1625-AC65
123 | Implementation of Training Requirements for Personnel Serving on U.S.-Flagged Passenger Ships That Carry More than 12 Passengers on International Voyages | 1625-AC68
124 | MARPOL Annex VI; Prevention of Air Pollution From Ships | 1625-AC78

U.S. Coast Guard—Final Rule Stage
Sequence No. | Title | Regulation Identifier No.
125 | Commercial Fishing Vessels—Implementation of 2010 and 2012 Legislation | 1625-AB85
126 | Lifejacket Approval Harmonization | 1625-AC62
127 | Cybersecurity in the Marine Transportation System | 1625-AC77

U.S. Coast Guard—Completed Actions
Sequence No. | Title | Regulation Identifier No.
128 | User Fees for Inspected Towing Vessels | 1625-AC55

U.S. Customs and Border Protection—Proposed Rule Stage
Sequence No. | Title | Regulation Identifier No.
129 | Automated Commercial Environment (ACE) Electronic Export Manifest For Vessel Cargo | 1651-AB59

Transportation Security Administration—Long-Term Actions
Sequence No. | Title | Regulation Identifier No.
130 | Vetting of Certain Surface Transportation Employees | 1652-AA69
131 | Amending Vetting Requirements for Employees With Access to a Security Identification Display Area (SIDA) | 1652-AA70

Federal Emergency Management Agency—Final Rule Stage
Sequence No. | Title | Regulation Identifier No.
132 | Updates to Floodplain Management and Protection of Wetlands Regulations to Implement the Federal Flood Risk Management Standard | 1660-AB12

Cybersecurity and Infrastructure Security Agency—Proposed Rule Stage
Sequence No. | Title | Regulation Identifier No.
133 | Ammonium Nitrate Security Program | 1670-AA00

DEPARTMENT OF HOMELAND SECURITY (DHS)

U.S. Citizenship and Immigration Services (USCIS)

Proposed Rule Stage

116. Modernizing Regulations Governing Nonimmigrant Workers [1615-AC88]

Legal Authority: 8 U.S.C. 1101; 8 U.S.C. 1184; 8 U.S.C. 1324a

Abstract: The Department of Homeland Security (DHS) proposes to amend its regulations governing certain nonimmigrant workers. The proposed changes include updating the employment authorization rules regarding dependent spouses of certain nonimmigrants; increasing flexibilities for certain nonimmigrant workers, including those who resign or are terminated from employment, and religious workers who have reached their maximum period of stay or are waiting for immigrant visas to become available; and modernizing policies and procedures for Employment Authorization Documents.

Timetable:

Action | Date | FR Cite
NPRM | 01/00/25

Regulatory Flexibility Analysis Required: Yes.

Agency Contact: Mark Phillips, Residence and Naturalization Division Chief, Department of Homeland Security, U.S. Citizenship and Immigration Services, Office of Policy and Strategy, 5900 Capital Gateway Drive, Suite 4S190, Camp Springs, MD 20588-0009, Phone: 240 721-3000.

RIN: 1615-AC88

DEPARTMENT OF HOMELAND SECURITY (DHS)

U.S. Citizenship and Immigration Services (USCIS)

Final Rule Stage

117. Modernizing H-1B Requirements and Oversight, Providing Flexibility in the F-1 Program, and Program Improvements Affecting Other Nonimmigrant Workers [1615-AC70]

Legal Authority: 6 U.S.C. 101, 112 and 202; 8 U.S.C. 1101(a)(15)(F) and (H)(i)(b), 1103(a)(3), 1184(a), (c), (g); and (i) and 1357(b). . . . ; . . .

Abstract: On October 23, 2023, the Department of Homeland Security (DHS) published a notice of proposed rulemaking (NPRM or proposed rule) 88 FR 72870 that proposed to amend its regulations governing H-1B specialty occupation workers and F-1 students who are the beneficiaries of timely filed H-1B cap-subject petitions. Specifically, DHS proposed to revise the regulations relating to definition of “specialty occupation” and the “employer-employee relationship”; provide flexibility for start-up entrepreneurs; implement new requirements and guidelines for H-1B site visits; provide flexibility on the employment start date listed on the petition (in limited circumstances); address “cap-gap” issues; bolster the H-1B registration process to reduce the possibility of misuse and fraud in the H-1B registration system; modernize cap exemptions; clarify the requirement that an amended or new petition be filed where there are material changes; and codify USCIS' deference policy and requirement of maintenance of status for all employment-based nonimmigrant classifications that use Form I-129, among other provisions. The October 23, 2023 NPRM was informed by public comments USCIS received in response to a Request for Public Input that published on April 19, 2021.

On February 2, 2024, DHS published a final rule, 89 FR 7456, implementing a beneficiary centric selection process for H-1B registrations, as well as additional integrity measures and flexibilities related to H-1B registration. DHS continues to consider the suggestions made in public comments received as they relate to the other proposed provisions discussed in the October 23, 2023 NPRM, and intends to finalize the remaining provisions in one or more actions.

Timetable:

Action | Date | FR Cite
NPRM | 10/23/23 | 88 FR 72870
NPRM Comment Period End | 12/22/23
Final Action | 02/02/24 | 89 FR 7456
Final Action Effective | 03/06/24
Final Action | 12/00/24

Regulatory Flexibility Analysis Required: Yes.

Agency Contact: Charles Nimick, Chief, Business and Foreign Workers Division, Office of Policy and Strategy, Department of Homeland Security, U.S. Citizenship and Immigration Services, 5900 Capital Gateway Drive, Suite 4S190, Camp Springs, MD 20588-0009, Phone: 240 721-3000.

RIN: 1615-AC70

118. Modernizing H-2 Program Requirements, Oversight, and Worker Protections [1615-AC76]

Legal Authority: 6 U.S.C. 202, 8 U.S.C. secs. 1101(a)(15)(H)(ii)(a) and (b);1103(a)(3), 1184(a), (c) and (g), 1324a, 1225; 1357

Abstract: On September 20, 2023, DHS published a notice of proposed rulemaking (NPRM) which proposed several changes to modernize and reform the H-2A and H-2B nonimmigrant worker programs. Many of the proposals contained in the NPRM were informed by public feedback USCIS received in response to its April 19, 2021 Request for Public Input. Specifically, the NPRM incorporated new policies that if finalized would produce program efficiencies, address current aspects of the program that may unintentionally result in exploitation or other abuse of persons seeking to come to this country as H-2A and H-2B workers, build upon existing protections against prohibited payments or other assessment of fees and/or salary deductions by H-2A and H-2B employers in connection with recruitment and/or H-2 employment, and otherwise add protections for workers. DHS did not propose any changes that would revise the temporary labor certification process or the regulations contained in 20 CFR part 655 or 29 CFR part 501 and 503. The public comment period closed November 20, 2023, and DHS is continuing to review the comments received during the comment period and in accordance with the instructions contained in the NPRM.

Timetable:

Action | Date | FR Cite
NPRM | 09/20/23 | 88 FR 65040
NPRM Comment Period End | 11/20/23
Final Action | 11/00/24

Regulatory Flexibility Analysis Required: Yes.

Agency Contact: Charles Nimick, Chief, Business and Foreign Workers Division, Office of Policy and Strategy, Department of Homeland Security, U.S. Citizenship and Immigration Services, 5900 Capital Gateway Drive, Suite 4S190, Camp Springs, MD 20588-0009, Phone: 240 721-3000.

RIN: 1615-AC76

DEPARTMENT OF HOMELAND SECURITY (DHS)

U.S. Citizenship and Immigration Services (USCIS)

Long-Term Actions

119. Petition for Immigrant Worker Reforms [1615-AC85]

Legal Authority: 6 U.S.C. 112; 8 U.S.C. 1103(a); 8 U.S.C. 1153(b); 8 U.S.C. 1154(a)(1)(E) and (F); 8 U.S.C. 1182(a)(5)(C) and (r)

Abstract: The Department of Homeland Security (DHS) is proposing to amend its regulations governing employment-based immigrant petitions in the first, second, and third preference classifications. Petitions for these classifications are filed by employers, or in certain cases by noncitizens on their own behalf, to bring talent and skills to the United States. The proposed rule would, if finalized, codify current policy guidance and implement administrative decisions regarding successorship-in-interest and ability to pay; update provisions governing extraordinary ability and outstanding professors and researchers; modernize outdated provisions for individuals of extraordinary ability and outstanding professors and researchers; clarify evidentiary requirements for first preference classifications, second preference national interest waiver (NIW) classifications, and physicians of national and international renown; implement reforms to ensure the integrity of the I-140 program; and correct errors and omissions.

Timetable:

Action | Date | FR Cite
NPRM | 06/00/25

Regulatory Flexibility Analysis Required: Yes.

Agency Contact: Charles Nimick, Chief, Business and Foreign Workers Division, Office of Policy and Strategy, Department of Homeland Security, U.S. Citizenship and Immigration Services, 5900 Capital Gateway Drive, Suite 4S190, Camp Springs, MD 20588-0009, Phone: 240 721-3000.

RIN: 1615-AC85

DEPARTMENT OF HOMELAND SECURITY (DHS)

U.S. Citizenship and Immigration Services (USCIS)

Completed Actions

120. U.S. Citizenship and Immigration Services Fee Schedule and Changes to Certain Other Immigration Benefit Request Requirements [1615-AC68]

Legal Authority: 8 U.S.C. 1356(m), (n)

Abstract: On January 31, 2024, the Department of Homeland Security (DHS) published a final rule, 89 FR 6194, that adjusted the fees charged by U.S. Citizenship and Immigration Services (USCIS) for immigration and naturalization benefit requests. The rule rescinds and replaces the changes made by an August 3, 2020, rule and establishes new USCIS fees to recover USCIS operating costs. This rule also provides additional fee exemptions for certain humanitarian categories and makes changes to certain other immigration benefit request requirements.

Timetable:

Action | Date | FR Cite
NPRM | 01/04/23 | 88 FR 402
NPRM Correction | 01/09/23 | 88 FR 1172
NPRM Comment Period End | 03/06/23
NPRM Comment Period Extended | 02/24/23 | 88 FR 11825
NPRM Comment Period Extended End | 03/13/23
Final Rule | 01/31/24 | 89 FR 6194
Final Rule; Correction | 03/21/24 | 89 FR 20101
Final Rule Effective | 04/01/24

Regulatory Flexibility Analysis Required: Yes.

Agency Contact: Kika Scott, Chief Financial Officer, Department of Homeland Security, U.S. Citizenship and Immigration Services, 5900 Capital Gateway Drive, Suite 4S190, Camp Springs, MD 20588-0009, Phone: 240 721-3000.

RIN: 1615-AC68

DEPARTMENT OF HOMELAND SECURITY (DHS)

U.S. Coast Guard (USCG)

Proposed Rule Stage

121. Claims Procedures Under the Oil Pollution Act of 1990 [1625-AA03]

Legal Authority: 33 U.S.C. 2713 and 2714

Abstract: The purpose of this project is to remove superseded regulations at 33 Code of Federal Regulations (CFR) part 135, and to finalize the Oil Pollution Act of 1990 (OPA90) claims procedures at 33 CFR part 136. The OPA90 claims procedures, implementing OPA90 section 1013 (Claims Procedures) and section 1014 (Designation of Source and Advertisement), were established by an interim rule, titled “Claims under the Oil Pollution Act of 1990” (Interim Rule) that has not been substantively amended since it was published in 1992. This rulemaking supports the Coast Guard's strategic goal of protection of natural resources.

Timetable:

Action | Date | FR Cite
Interim Final Rule | 08/12/92 | 57 FR 36314
Correction | 09/09/92 | 57 FR 41104
Interim Final Rule Comment Period End | 12/10/92
Notice of Inquiry | 11/01/11 | 76 FR 67385
Notice of Inquiry Comment Period End | 01/30/12
NPRM | 03/00/25

Regulatory Flexibility Analysis Required: Yes.

Agency Contact: Benjamin White, Project Manager, Department of Homeland Security, U.S. Coast Guard, National Pollution Funds Center (NPFC), 2703 Martin Luther King Jr. Avenue SE, STOP 7605, Washington, DC 20593-7605, Phone: 202 795-6066, Email: benjamin.h.white@uscg.mil.

RIN: 1625-AA03

122. Safety Management Systems For Domestic Passenger Vessels [1625-AC65]

Legal Authority: 46 U.S.C. 3202 and 3203; DHS Delegation No. 0170.1(92)(b)

Abstract: The Coast Guard reviewed the public input received in response to its January 2021 ANPRM on a possible new safety management system (SMS) for passenger and small passenger vessels. This proposed rulemaking would outline new SMS regulations for small passenger vessels (SPVs) meeting the statutory definition of a covered small passenger vessel in line with the 2010 and 2020 Coast Guard Authorization Acts. Under this proposed rulemaking, all SPVs on oceans or coastwise routes, or having overnight accommodations for passengers, would be required to implement an SMS conforming to the requirements of a newly developed SPV SMS or an accepted alternative.

Timetable:

Action | Date | FR Cite
ANPRM | 01/15/21 | 86 FR 3899
ANPRM Correction | 03/01/21 | 86 FR 11913
ANPRM Comment Period Extended | 04/01/21 | 86 FR 17090
ANPRM Comment Period End | 04/15/21 |
ANPRM Comment Period Extended End | 06/01/21 |
NPRM | 10/00/24 |

Regulatory Flexibility Analysis Required: Yes.

Agency Contact: David Ward, Occupational Safety and Health Program Manager, Department of Homeland Security, U.S. Coast Guard, Office of Operating & Environmental Standards (CG-OES-2), 2703 Martin Luther King Jr. Avenue SE, Stop 7509, Washington, DC 20593, Phone: 202 372-1386, Email: david.ward@uscg.mil.

RIN: 1625-AC65

123. Implementation of Training Requirements for Personnel Serving on U.S.-Flagged Passenger Ships That Carry More Than 12 Passengers on International Voyages [1625-AC68]

Legal Authority: 14 U.S.C. 102(3); 14 U.S.C. 503; 46 U.S.C. 7101; 46 U.S.C. 7306; 46 U.S.C. 7313

Abstract: This proposed rule would implement the 2016 amendments to the International Convention on Standards of Training, Certification and Watchkeeping for Seafarers (STCW) and the STCW Code by revising U.S. Coast Guard regulations at 46 CFR subchapter B, parts 11 and 12 to include additional requirements for the training and qualifications of masters, officers, and ratings on passenger ships, as required by the STCW Convention, to which the United States is a signatory. First, the Coast Guard would implement the 2016 amendments to the STCW Convention and the STCW Code for personnel serving on passenger ships that operate on international voyages. The proposed revisions would add a requirement for all personnel to complete passenger ship emergency familiarization training appropriate to their capacity, duties, and responsibilities during an emergency before being assigned to shipboard duties. The proposal would also expand the applicability of crowd management training to include qualified ratings.

Timetable:

Action | Date | FR Cite
NPRM | 08/00/24 |

Regulatory Flexibility Analysis Required: Yes.

Agency Contact: Megan Johns Henry, Marine Transportation Specialist, Department of Homeland Security, U.S. Coast Guard, Office of Merchant Mariner Credentialing (CG-MMC-1), 2703 Martin Luther King Jr. Avenue SE, STOP 7509, Washington, DC 20593-7509, Phone: 202 372-1255, Email: megan.c.johns@uscg.mil.

RIN: 1625-AC68

124. MARPOL Annex VI; Prevention of Air Pollution From Ships [1625-AC78]

Legal Authority: 33 U.S.C. 1903

Abstract: The Coast Guard is proposing regulations to carry out the provisions of Annex VI of the MARPOL Protocol, which is focused on the prevention of air pollution from ships. The Act to Prevent Pollution from Ships has already given direct effect to most provisions of Annex VI, and the Coast Guard and the Environmental Protection Agency have carried out some Annex VI provisions through previous rulemakings. This proposed rule would fill gaps in the existing framework for carrying out the provisions of Annex VI. Chapter 4 of Annex VI contains shipboard energy efficiency measures that include short-term measures reducing carbon emissions linked to climate change and supports Administration goals outlined in Executive Order 14008 titled Tackling the Climate Crisis at Home and Abroad. This proposed rule would apply to U.S.-flagged ships. It would also apply to foreign-flagged ships operating either in U.S. navigable waters or in the U.S. Exclusive Economic Zone.

Timetable:

Action | Date | FR Cite
NPRM | 09/00/24 |

Regulatory Flexibility Analysis Required: Yes.

Agency Contact: Frank Strom, Chief, Systems Engineering Division (CG-ENG-3), Department of Homeland Security, U.S. Coast Guard, Office of Design and Engineering Standards, 2703 Martin Luther King Jr. Avenue SE, STOP 7509, Washington, DC 20593-7509, Phone: 202 372-1375, Email: frank.a.strom@uscg.mil.

RIN: 1625-AC78

DEPARTMENT OF HOMELAND SECURITY (DHS)

Final Rule Stage

U.S. Coast Guard (USCG)

125. Commercial Fishing Vessels-Implementation of 2010 and 2012 Legislation [1625-AB85]

Legal Authority: 46 U.S.C. 4502 and 5103; Pub. L. 111-281; Pub. L. 112-213

Abstract: The Coast Guard will implement 2010 and 2012 legislation that pertains to uninspected commercial fishing industry vessels. The requirements took effect upon enactment of the legislation but require amendments to Coast Guard regulations to be implemented. Coast Guard is changing the applicability of the regulations, and adding new requirements to safety training, equipment, vessel examinations, vessel safety standards, the documentation of maintenance, and the termination of unsafe operations. This rulemaking promotes the Coast Guard's maritime safety mission.

Timetable:

Action | Date | FR Cite
NPRM | 06/21/16 | 81 FR 40437
NPRM Comment Period Extended | 08/15/16 | 81 FR 53986
NPRM Comment Period End | 09/19/16 |
NPRM Comment Period Extended End | 12/18/16 |
Final Rule | 05/00/25 |

Regulatory Flexibility Analysis Required: Yes.

Agency Contact: Joseph Myers, Project Manager, Department of Homeland Security, U.S. Coast Guard, Office of Commercial Vessel Compliance (CG-CVC-3), 2703 Martin Luther King Jr. Avenue SE, STOP 7501, Washington, DC 20593-7501, Phone: 202 372-1249, Email: joseph.d.myers@uscg.mil.

RIN: 1625-AB85

126. Lifejacket Approval Harmonization [1625-AC62]

Legal Authority: 46 U.S.C. 3306(a); 46 U.S.C. 3306(b); 46 U.S.C. 4102(a); 46 U.S.C. 4102(b); 46 U.S.C. 4302(a); 46 U.S.C. 4502(a); 46 U.S.C. 4502(c)(2)(B)

Abstract: The Coast Guard is amending the lifejacket approval requirements and follow-up program requirements by incorporating new bi-national standards. At the same time, the Coast Guard is amending lifejacket and personal flotation devices (PFDs) carriage requirements to allow for the use of equipment approved to the new standards, and to remove obsolete equipment approval requirements. The new standards are intended to replace the legacy standards. The amendments streamline the process for approval of PFDs and allow manufacturers the opportunity to produce more innovative equipment that meets the approval requirements of both Canada and the United States, while reducing the burden for manufacturers in both the approval process and follow-up program. The rule is expected to provide a cost savings by reducing the regulatory burden on PFD manufacturers by harmonizing our PFD approval standards with Canada, requiring less frequent inspections of manufacturing facilities, and providing lower cost PFD user manuals. This rule is consistent with Executive Order 14058, which directs agencies to take actions that improve service delivery and customer experience by decreasing administrative burdens, enhancing transparency, and improving the efficiency and effectiveness of government.

Timetable:

Action | Date | FR Cite
NPRM | 04/07/23 | 88 FR 21016
NPRM Correction | 05/01/23 | 88 FR 26514
NPRM Comment Period End | 06/06/23 |
Final Rule | 09/00/24 |

Regulatory Flexibility Analysis Required: Yes.

Agency Contact: Jacqueline M. Yurkovich, Project Manager, Department of Homeland Security, U.S. Coast Guard, Office of Design and Engineering Standards (CG-ENG-4), 2703 Martin Luther King Jr. Avenue SE, STOP 7509, Washington, DC 20593-7509, Phone: 571 607-4931, Email: jacqueline.m.yurkovich@uscg.mil.

RIN: 1625-AC62

127. Cybersecurity in the Marine Transportation System [1625-AC77]

Legal Authority: 46 U.S.C. 70101; 46 U.S.C. 70102; 46 U.S.C. 70103; 46 U.S.C. 70104; 46 U.S.C. 70124

Abstract: The Coast Guard has published a proposed rule to update its maritime security regulations by adding regulations specifically focused on establishing minimum cybersecurity requirements for U.S.-flagged vessels, Outer Continental Shelf facilities, and U.S. facilities subject to the Maritime Transportation Security Act of 2002 regulations. This proposed rulemaking is part of an ongoing effort to address emerging cybersecurity risks and threats to maritime security by including additional security requirements to safeguard the marine transportation system.

Timetable:

Action | Date | FR Cite
NPRM | 02/22/24 | 89 FR 13403
NPRM Comment Period Extended | 04/09/24 | 89 FR 24751
NPRM Comment Period End | 04/22/24 |
Extended Comment Period End | 05/22/24 |
Final Rule | 12/00/24 |

Regulatory Flexibility Analysis Required: Yes.

Agency Contact: Frank Strom, Chief, Systems Engineering Division (CG-ENG-3), Department of Homeland Security, U.S. Coast Guard, Office of Design and Engineering Standards, 2703 Martin Luther King Jr. Avenue SE, STOP 7509, Washington, DC 20593-7509, Phone: 202 372-1375, Email: frank.a.strom@uscg.mil.

RIN: 1625-AC77

DEPARTMENT OF HOMELAND SECURITY (DHS)

U.S. Coast Guard (USCG)

Completed Actions

128. User Fees For Inspected Towing Vessels [1625-AC55]

Legal Authority: 46 U.S.C. 2103; 46 U.S.C. 2110; Pub. L. 115-282, sec. 815

Abstract: This rulemaking revised user fees for towing vessels inspected under 46 CFR subchapter M and updated the existing user fee in 46 CFR 2.10-101 for sea-going towing vessels inspected under 46 CFR subchapter I. These user fees are for services related to the inspection of these vessels and will reflect the differences in cost to the government to provide these services to vessels that use a safety management system involving a third party and vessels that do not.

Timetable:

Action | Date | FR Cite
NPRM | 01/11/22 | 87 FR 1378
NPRM Comment Period End | 04/11/22 |
Final Rule | 12/28/23 | 88 FR 89595
Final Rule Effective | 03/27/24 |

Regulatory Flexibility Analysis Required: Yes.

Agency Contact: Jennifer Hnatow, Project Manager, Department of Homeland Security, U.S. Coast Guard, Commercial Vessel Compliance (CG-CVC-1), 2703 Martin Luther King Jr. Avenue SE, STOP 7501, Washington, DC 20593-7501, Phone: 202 372-1216, Email: jennifer.l.hnatow@uscg.mil.

RIN: 1625-AC55

DEPARTMENT OF HOMELAND SECURITY (DHS)

U.S. Customs and Border Protection (USCBP)

Proposed Rule Stage

129. • Automated Commercial Environment (ACE) Electronic Export Manifest for Vessel Cargo [1651-AB59]

Legal Authority: Not Yet Determined

Abstract: U.S. Customs and Border Protection (CBP) proposes to amend its regulations to require the advance submission of electronic export manifest (EEM) information to CBP in the Automated Commercial Environment for cargo transported by vessel departing the United States. The proposed rule would identify the parties eligible to transmit advance vessel EEM information, and their responsibilities, and describe the time frames for transmission of the information prior to cargo loading or conveyance departure. Requiring this data in advance would significantly improve cargo safety and security while minimizing disruption to the flow of commerce in the sea environment.

Timetable:

Action | Date | FR Cite
NPRM | 09/00/24 |

Regulatory Flexibility Analysis Required: Yes.

Agency Contact: Thomas Pagano, Chief, Outbound Enforcement Branch, Department of Homeland Security, U.S. Customs and Border Protection, Office of Field Operations, 1300 Pennsylvania Ave, NW, Washington, DC 20229, Phone: 202 344-3277, Email: cbpexportmanifest@cpb.dhs.gov

RIN: 1651-AB59

DEPARTMENT OF HOMELAND SECURITY (DHS)

Transportation Security Administration (TSA)

Long-Term Actions

130. Vetting of Certain Surface Transportation Employees [1652-AA69]

Legal Authority: 49 U.S.C. 114; Pub. L. 108-90, sec. 520; Pub. L. 110-53, secs. 1411, 1414, 1512, 1520, 1522, and 1531

Abstract: The 9/11 Act requires vetting of certain railroad, public transportation, and over-the-road bus employees. Also, 6 U.S.C. 469 requires TSA to collect fees to recover the costs of the vetting services. On May 23, 2023, the Transportation Security Administration (TSA) issued a proposed rule to establish the standards and procedures to conduct the required vetting and recover costs. This regulation is related to 1652-AA55, Security Training for Surface Transportation Employees.

Timetable:

Action | Date | FR Cite
NPRM | 05/23/23 | 88 FR 33472
NPRM Comment Period End | 08/21/23 |
NPRM Extension of Comment Period | 08/22/23 | 88 FR 57044
NPRM Extension Comment Period End | 10/01/23 |
Final Rule | To Be Determined

Regulatory Flexibility Analysis Required: Yes.

Agency Contact: Ashlee Marks, Branch Manager, Policy Development Branch, Surface Division, Department of Homeland Security, Transportation Security Administration, Policy, Plans, and Engagement, 6595 Springfield Center Drive, Springfield, VA 20598-6028, Phone: 571 227-3740, Email: ashlee.marks@tsa.dhs.gov.

James Ruger, Chief Economist, Economic Analysis Branch-Coordination & Analysis Division, Department of Homeland Security, Transportation Security Administration, Policy, Plans, and Engagement, 6595 Springfield Center Drive, Springfield, VA 20598-6028, Phone: 571 227-5519, Email: james.ruger@tsa.dhs.gov.

Christine Beyer, Senior Counsel, Regulations and Security Standards, Department of Homeland Security, Transportation Security Administration, Chief Counsel's Office, 6595 Springfield Center Drive, Springfield, VA 20598-6002, Phone: 571 227-3653, Email: christine.beyer@tsa.dhs.gov.

RIN: 1652-AA69

131. Amending Vetting Requirements for Employees With Access to a Security Identification Display Area (SIDA) [1652-AA70]

Legal Authority: Pub. L. 114-190, sec. 3405

Abstract: As required by the FESSA, TSA will propose a rule to revise its regulations, reflecting current knowledge of insider threat and intelligence, to enhance the eligibility requirements and disqualifying criminal offenses for individuals seeking or having unescorted access to any SIDA of an airport. Consistent with the statutory mandate, TSA will consider adding to the list of disqualifying criminal offenses and criteria, develop an appeal and waiver process for the issuance of credentials for unescorted access, and propose an extension of the lookback period for disqualifying crimes. As part of TSA's reevaluation of the eligibility and redress standards for aviation workers required by the Act, TSA is also reevaluating the current vetting process to minimize any security risks that may exist.

Timetable:

Action | Date | FR Cite
NPRM | To Be Determined

Regulatory Flexibility Analysis Required: Yes.

Agency Contact: Zachary Landis, Branch Manager, Airports Security Programs, Department of Homeland Security, Transportation Security Administration, Aviation Division, Policy, Plans, and Engagement, Springfield, VA 20598-6028, Phone: 571 230-4863, Email: zachary.landis@tsa.dhs.gov.

James Ruger, Chief Economist, Economic Analysis Branch-Coordination & Analysis Division, Department of Homeland Security, Transportation Security Administration, Policy, Plans, and Engagement, 6595 Springfield Center Drive, Springfield, VA 20598-6028, Phone: 571 227-5519, Email: james.ruger@tsa.dhs.gov.

Christine Beyer, Senior Counsel, Regulations and Security Standards, Department of Homeland Security, Transportation Security Administration, Chief Counsel's Office, 6595 Springfield Center Drive, Springfield, VA 20598-6002, Phone: 571 227-3653, Email: christine.beyer@tsa.dhs.gov.

RIN: 1652-AA70

DEPARTMENT OF HOMELAND SECURITY (DHS)

Federal Emergency Management Agency (FEMA)

Final Rule Stage

132. Updates to Floodplain Management and Protection of Wetlands Regulations To Implement the Federal Flood Risk Management Standard [1660-AB12]

Legal Authority: 6 U.S.C. 101 et seq.; 42 U.S.C. 4001 et seq.; 42 U.S.C. 4321 et seq.; E.O. 11988 of May 24, 1977, 42 FR 26951, 3 CFR, 1977 Comp., p. 117; E.O. 11990 of May 24, 1977, 42 FR 26961, 3 CFR, 1977 Comp., p. 121; E.O. 13690, 80 FR 6425; E.O. 14030, 86 FR 27967

Abstract: On October 2, 2023, consistent with President Biden's Executive Order on Climate Related Financial Risk (E.O. 14030), the Federal Emergency Management Agency (FEMA) proposed to amend its regulations at 44 CFR part 9, “Floodplain Management and Protection of Wetlands,” to incorporate amendments to Executive Order 11988 and the Federal Flood Risk Management Standard (FFRMS). The FFRMS is a flexible framework allowing agencies to choose among three approaches to define the floodplain and corresponding flood elevation requirements for federally funded projects. 44 CFR part 9 describes FEMA's process under Executive Order 11988 for determining whether the proposed location for an action falls within a floodplain and how to complete the action in the floodplain, in light of the risk of flooding.

The rule would change how FEMA defines a floodplain with respect to certain actions. Additionally, under the rule, FEMA would use natural systems, ecosystem process, and nature-based approaches, where practicable, when developing alternatives to locating the proposed action in the floodplain. FEMA has engaged the public extensively on these matters.

On February 5, 2015, FEMA acting on behalf of the Mitigation Framework Leadership Group, published a Federal Register notice seeking comments on a draft of the Revised Guidelines for Implementing Executive Order 11988, Floodplain Management. The 60-day comment period was extended an additional 30 days. During the public comment period for the Revised Guidelines, FEMA sent advisories to representatives from Governors' offices nationwide inviting comments on the draft Revised Guidelines. Over 25 meetings were held across the country with State, local, and Tribal officials and interested stakeholders to discuss the draft Revised Guidelines as well as 9 public listening sessions across the country attended by over 700 participants to facilitate feedback. All relevant comments received in response to these efforts have been posted to the public rulemaking docket on the Federal eRulemaking portal at https://www.regulations.gov/document/FEMA-2015-0006-0001/comment. Comments from meetings and listening sessions can be found at https://www.regulations.gov/docket/FEMA-2015-0006/document. Additionally, FEMA published a Notice of Proposed Rulemaking (NPRM) in 2016 seeking public comment on FEMA's proposed implementation of the Revised Guidelines. All relevant comments received in response to the 2016 NPRM were posted to the public rulemaking docket on the Federal eRulemaking portal at https://www.regulations.gov/document/FEMA-2015-0006-0373/comment.

Timetable:

Action | Date | FR Cite
Proposed Policy: Request for Comments | 10/02/23 | 88 FR 67697
Proposed Policy: Comment Period End | 12/01/23 |
NPRM | 10/02/23 | 88 FR 67869
NPRM Comment Period End | 12/01/23 |
Final Rule | 07/00/24 |

Regulatory Flexibility Analysis Required: Yes.

Agency Contact: Portia Ross, Office of Environmental and Historic Preservation, Department of Homeland Security, Federal Emergency Management Agency, 400 C Street SW, Washington, DC 20472, Phone: 202 709-0677, Email: fema-regulations@fema.dhs.gov.

RIN: 1660-AB12

DEPARTMENT OF HOMELAND SECURITY (DHS)

Cybersecurity and Infrastructure Security Agency (CISA)

Proposed Rule Stage

133. Ammonium Nitrate Security Program [1670-AA00]

Legal Authority: 6 U.S.C. 488 et seq.

Abstract: The Cybersecurity and Infrastructure Security Agency (CISA) is proposing a rulemaking to implement the December 2007 amendment to the Homeland Security Act titled “Secure Handling of Ammonium Nitrate.” This amendment requires the Department of Homeland Security to “regulate the sale and transfer of ammonium nitrate by an ammonium nitrate facility...to prevent the misappropriation or use of ammonium nitrate in an act of terrorism.” CISA previously issued a Notice of Proposed Rulemaking (NPRM) on August 3, 2011. CISA is planning to issue a Supplemental Notice of Proposed Rulemaking (SNPRM).

Timetable:

Action | Date | FR Cite
ANPRM | 10/29/08 | 73 FR 64280
ANPRM Correction | 11/05/08 | 73 FR 65783
ANPRM Comment Period End | 12/29/08 |
NPRM | 08/03/11 | 76 FR 46908
Notice of Public Meetings | 10/07/11 | 76 FR 62311
Notice of Public Meetings | 11/14/11 | 76 FR 70366
NPRM Comment Period End | 12/01/11 |
Notice of Availability | 06/03/19 | 84 FR 25495
Notice of Availability Comment Period End | 09/03/19 |
Supplemental NPRM | 07/00/24 |

Regulatory Flexibility Analysis Required: Yes.

Agency Contact: Ann Hunziker, Branch Chief for Policy Rulemaking and Engagement, Department of Homeland Security, Cybersecurity and Infrastructure Security Agency, 1310 N. Courthouse Rd., Arlington, VA 22202, Phone: 202 604-5817, Email: ann.hunziker@cisa.dhs.gov.

RIN: 1670-AA00

[FR Doc. 2024-16453 Filed 8-15-24; 8:45 am]

BILLING CODE 9110-9B-P